DEPARTMENT OF THE INTERIOR

National Park Service

[NPS-WASO-NAGPRA-NPS0036385; PPWOCRADN0-PCU00RP14.R50000]

Notice of Inventory Completion: Berkshire Museum, Pittsfield, MA

AGENCY: National Park Service, Interior.

ACTION: Notice.

SUMMARY: In accordance with the Native American Graves Protection and Repatriation Act (NAGPRA), the Berkshire Museum has completed an inventory of human remains and associated funerary objects and has determined that there is a cultural affiliation between the human remains and associated funerary objects and Indian Tribes or Native Hawaiian organizations in this notice. The human remains and associated funerary objects were removed from Hampden County, MA.

DATES: Repatriation of the human remains and associated funerary objects in this notice may occur on or after September 18, 2023.

ADDRESSES: Jason Vivori, Berkshire Museum, 39 South Street, Pittsfield, MA 01201, telephone (413) 443-7171 Ext. 341, email jvivori@berkshiremuseum.org.

SUPPLEMENTARY INFORMATION: This notice is published as part of the National Park Service's administrative responsibilities under NAGPRA. The determinations in this notice are the sole responsibility of the Berkshire Museum. The National Park Service is not responsible for the determinations in this notice. Additional information on the determinations in this notice, including the results of consultation, can be found in the inventory or related records held by the Berkshire Museum.

Description

Human remains representing, at minimum, two individuals were removed from Hampden County, MA. At an unknown time, the Berkshire Museum received human remains that had been collected by Professor Eben Horsford (1818-1893). Handwritten notes kept with the human remains indicate that they had washed out from a burial ground in Springfield/Longmeadow. In 1995, an osteological report by Ann Marie Mires of the Department of Anthropology at the University of Massachusetts concluded that the human remains (consisting of fragmentary cranial elements) belong to one adult and one adolescent. The 13 associated funerary objects are 10 pottery sherds (2005.3.365.1-9, 2012.7.103) and three stone tools (2023.8.1-3).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, kinship, linguistic, expert opinion.

Determinations

Pursuant to NAGPRA and its implementing regulations, and after consultation with the appropriate Indian Tribes and Native Hawaiian organizations, the Berkshire Museum has determined that:

• The human remains described in this notice represent the physical remains of two individuals of Native American ancestry.

• The 13 objects described in this notice are reasonably believed to have been placed with or near individual human remains at the time of death or later as part of the death rite or ceremony.

• There is a relationship of shared group identity that can be reasonably traced between the human remains and associated funerary objects described in this notice and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 18, 2023. If competing requests for repatriation are received, the Berkshire Museum must determine the most appropriate requestor prior to repatriation. Requests for joint repatriation of the human remains and associated funerary objects are considered a single request and not competing requests. The Berkshire Museum is responsible for sending a copy of this notice to the Indian Tribe identified in this notice.

Authority: Native American Graves Protection and Repatriation Act, 25 U.S.C. 3003, and the implementing regulations, 43 CFR 10.9, § 10.10, and § 10.14.

Dated: August 9, 2023.
Melanie O'Brien,
Manager, National NAGPRA Program.

[FR Doc. 2023-17780 Filed 8-17-23; 8:45 am]

BILLING CODE 4312-52-P